DEPARTMENT OF TRANSPORTATION

Federal Aviation Administration

Notice of Intent to Rule on Request to Release Airport Property at Ontario Municipal Airport, Ontario, OR

AGENCY: Federal Aviation Administration (FAA), DOT.

ACTION: Notice of request to release airport property.

SUMMARY: The FAA proposes to rule and invite public comment on the release of land at Ontario Municipal Airport under the provisions of Section 125 of the Wendell H. Ford Aviation Investment Reform Act for the 21st Century (AIR 21), now 49 U.S.C. 47107(h)(2).

DATES: Comments must be received on or before April 26, 2006.

ADDRESSES: Comments on this application may be mailed or delivered to the FAA at the following address:

Mr. J. Wade Bryant, Manager, Federal Aviation Administration, Northwest Mountain Region, Airports Division, Seattle Airports District Office, 1601 Lind Avenue, SW., Suite 250, Renton, Washington 98055-4056.

In addition, one copy of any comments submitted to the FAA must be mailed or delivered to Mr. Scott Trainor, City Manager, City of Ontario, at the following address:

Mr. Scott Trainor, City Manager, City of Ontario, 444 SW 4th Street, Ontario, OR 97914.

FOR FURTHER INFORMATION CONTACT: Mr. William L. Watson, OR/ID Section Supervisor, Federal Aviation Administration, Northwest Mountain Region, Seattle Airports District Office, 1601 Lind Avenue, SW., Suite 250, Renton, Washington 98055-4056.

The request to release property may be reviewed, by appointment, in person at this same location.

SUPPLEMENTARY INFORMATION: The FAA invites public comment on the request to release property at Ontario Municipal Airport under the provisions of the AIR 21 (49 U.S.C. 47107(h)(2)).

On March 10, 2006, the FAA determined that the request to release property at Ontario Municipal Airport submitted by the airport meets the procedural requirements of the Federal Aviation Administration. The FAA may approve the request, in whole or in part, no later than April 26, 2006.

Ontario Municipal Airport is proposing the release of approximately 29.13 acres of airport property so the property can be sold to Snake River Sportmen. The revenue made from this sale will be used toward purchase of Montgomery and Snow properties, which sit directly in the Runway Protection Zone.

Any person may inspect, by appointment, the request in person at the FAA office listed above under FOR FURTHER INFORMATION CONTACT.

In addition, any person may, upon appointment and request, inspect the application, notice and other documents germane to the application in person at Ontario Municipal Airport.

Dated: Issued in Renton, Washington, on March 10, 2006.
J. Wade Bryant,
Manager, Seattle Airports District Office.

[FR Doc. 06-2916 Filed 3-24-06; 8:45 am]

BILLING CODE 4910-13-M